DEPARTMENT OF ENERGY

Federal Energy Regulatory Commission

[Docket Nos. CP07-414-000; CP07-415-000; CP07-416-000]

Golden Triangle Storage, Inc. Notice of Applications

July 9, 2007.

Take notice that on June 29, 2007 and as supplemented on July 6, 2007 Golden Triangle Storage, Inc. (Golden Triangle), 1200 Smith Street, Suite 900, Houston, Texas 77002, pursuant to section 7(c) of the Natural Gas Act (NGA) and Parts 157 and 284 of the Commission's regulations, filed an abbreviated application for certificates of public convenience and necessity, seeking authority to develop and operate a two-cavern salt dome natural gas storage facility located near Beaumont in Jefferson and Orange Counties, Texas; to provide open-access firm and interruptible storage and hub services in interstate commerce at market-based rates under 18 CFR part 284, subpart G; and to undertake the limited construction and operation activities permitted under 18 CFR part 157, subpart F. This filing is available for review at the Commission in the Public Reference Room or may be viewed on the Commission's Web site at http://www.ferc.gov using the “e-Library” link. Enter the docket number excluding the last three digits in the docket number field to access the document. For assistance, contact FERC at FERCOnlineSupport or call toll-free, (866) 208-3676, or for TTY, (202) 502-8659.

Any questions regarding this application should be directed to David Schultz, Project Manager, Golden Triangle Storage, Inc., 1200 Smith Street, Suite 900, Houston, TX 77002, phone: (832) 397-3739, e-mail: goldentrianglestorage@aglresources.com.

The Golden Triangle Storage Project consists of developing two natural gas storage caverns in the Spindletop salt dome, developing up to five salt brine disposal wells, installing a 16-inch freshwater pipeline, installing a 16-inch brine disposal pipeline, installing a leaching plant, installing 14,205 horsepower of compression, and installing approximately 8.9 miles of 24-inch header pipeline and six associated meter stations and pipeline interconnects. Golden Triangle says that the facilities will ultimately provide an estimated 16 billion cubic feet (Bcf) of high deliverability, multi-cycle working storage capacity in two stages of development. In the first stage, Golden Triangle will solution mine each of the storage caverns to a volume of 8.2 million barrels for a working storage capacity or about 6 Bcf per cavern, and then place the caverns in commercial service, the first in late 2010 and the second in early 2013. Thereafter, in the second stage, through use of a partial cavern refilling solution mining technique, Golden Triangle proposes to gradually enlarge each of the caverns over a 10-12 year period to a potential maximum volume of up to 12.5 million barrels for a working storage capacity of 8 Bcf per cavern (16 Bcf in total). Golden Triangle seeks Commission certificate authorizations for both caverns and both stages of cavern development at this time.

Golden Triangle says that the need for the Project's services has already been confirmed by the market. In response to a non-binding open season held in May 2007, Golden Triangle received bids representing about three and a half times the initial 6 Bcf working gas capacity of Cavern 1 from a diverse group of potential customers, including marketers, producers and other entities. Golden Triangle is now negotiating precedent agreements with the highest bidders for longterm, firm service contracts. Once it concludes negotiations, Golden Triangle says it will file its executed precedent agreements as a supplement to this application.

Golden Triangle proposes to offer open access firm and interruptible storage and hub services and requests authority to charge market-based rates for its proposed services, which it says is consistent with the requirements of the Commission's Alternative Ratemaking Policies. The proposed terms and conditions for Golden Triangle's services are included in the pro forma tariff included in Exhibit P of the application.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this Project. First, any person wishing to obtain legal status by becoming a party to the proceeding for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see 18 CFR 285.2001(a)(1)(iii) and the instructions on the Commission's Web site under the “e-Filing” link. The Commission strongly encourages electronic filings.

Comment Date: July 23, 2007.

Kimberly D. Bose,
Secretary.

[FR Doc. E7-13852 Filed 7-17-07; 8:45 am]

BILLING CODE 6717-01-P